DEPARTMENT OF HEALTH AND HUMAN SERVICES

Food and Drug Administration

[Docket No. 03F-0088]

Ion Beam Applications; Filing of Food Additive Petition

AGENCY: Food and Drug Administration, HHS.

ACTION: Notice.

SUMMARY: The Food and Drug Administration (FDA) is announcing that Ion Beam Applications has filed a petition proposing that the food additive regulations be amended by increasing the maximum permitted energy level of X-rays for treating food to 7.5 million electron volts (MeV) from the currently permitted maximum level of 5.0 MeV.

FOR FURTHER INFORMATION CONTACT: Celeste Johnston, Center for Food Safety and Applied Nutrition (HFS-265), Food and Drug Administration, 5100 Paint Branch Pkwy., College Park, MD 20740-3835, 202-418-3423.

SUPPLEMENTARY INFORMATION: Under the Federal Food, Drug, and Cosmetic Act (sec. 409(b)(5) (21 U.S.C. 348(b)(5))), notice is given that a food additive petition (FAP 3M4745) has been filed by Ion Beam Applications, 6000 Poplar Ave., suite 426, Memphis, TN. The petition proposes to amend the food additive regulations in § 179.26 Ionizing radiation for the treatment of food (21 CFR 179.26) by increasing the maximum permitted energy level of X-rays for treating food to 7.5 MeV from the currently permitted maximum level of 5.0 MeV.

The agency has determined under 21 CFR 25.32(j) that this action is of a type that does not individually or cumulatively have a significant effect on the human environment. Therefore, neither an environmental assessment nor an environmental impact statement is required.

Dated: February 24, 2003.
Alan M. Rulis,
Director, Office of Food Additive Safety, Center for Food Safety and Applied Nutrition.

[FR Doc. 03-5955 Filed 3-12-03; 8:45 am]

BILLING CODE 4160-01-S